DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on October 14, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On October 14, 2025, OFAC determined that that the property and interests in property subject to U.S. jurisdiction of the following persons are blocked under the relevant sanctions authorities listed below.

Individuals

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being owned or controlled by, or having acted or purported to act for or on behalf of, directly or indirectly, PRINCE GROUP TRANSNATIONAL CRIMINAL ORGANIZATION, a person whose property and interests in property are blocked pursuant to E.O. 13581, as amended.

2. CHEN, Xiao'er, Frigate Bay, Saint Kitts and Nevis; DOB 01 May 1982; nationality Saint Kitts and Nevis; Gender Male; Passport RE00660066 (Saint Kitts and Nevis) (individual) [TCO] (Linked To: GRAND LEGEND INTERNATIONAL ASSET MANAGEMENT GROUP CO. LTD.).

Designated pursuant to section 1(a)(ii)(C) of E.O. 13581, as amended, for being owned or controlled by, or having acted or purported to act for or on behalf of, directly or indirectly, GRAND LEGEND INTERNATIONAL ASSET MANAGEMENT GROUP CO. LTD., a person whose property and interests in property are blocked pursuant to E.O. 13581, as amended.

3. HUANG, Chieh, Koror, Palau; Hsinchu, Taiwan; DOB 05 Jan 1994; nationality Taiwan; Gender Female; Passport 351788588 (Taiwan) (individual) [TCO] (Linked To: GRAND LEGEND INTERNATIONAL ASSET MANAGEMENT GROUP CO. LTD.).

Designated pursuant to section 1(a)(ii)(C) of E.O. 13581, as amended, for being owned or controlled by, or having acted or purported to act for or on behalf of, directly or indirectly, GRAND LEGEND INTERNATIONAL ASSET MANAGEMENT GROUP CO. LTD., a person whose property and interests in property are blocked pursuant to E.O. 13581, as amended.

4. SHIH, Ting-yu (a.k.a. “SHIH, Vivian”), Koror, Palau; DOB 08 Nov 1990; nationality Taiwan; Gender Female; Passport 353058635 (Taiwan) (individual) [TCO] (Linked To: GRAND LEGEND INTERNATIONAL ASSET MANAGEMENT GROUP CO. LTD.).

Designated pursuant to section 1(a)(ii)(C) of E.O. 13581, as amended, for being owned or controlled by, or having acted or purported to act for or on behalf of, directly or indirectly, GRAND LEGEND INTERNATIONAL ASSET MANAGEMENT GROUP CO. LTD., a person whose property and interests in property are blocked pursuant to E.O. 13581, as amended.

5. WANG, Michelle Reishane, Koror, Palau; DOB 05 Mar 1994; nationality Taiwan; Gender Female; Passport 360272295 (Taiwan) (individual) [TCO] (Linked To: GRAND LEGEND INTERNATIONAL ASSET MANAGEMENT GROUP CO. LTD.).

Designated pursuant to section 1(a)(ii)(C) of E.O. 13581, as amended, for being owned or controlled by, or having acted or purported to act for or on behalf of, directly or indirectly, GRAND LEGEND INTERNATIONAL ASSET MANAGEMENT GROUP CO. LTD., a person whose property and interests in property are blocked pursuant to E.O. 13581, as amended.

6. WANG, Guodan (a.k.a. “WANG, Rose”), P.O. Box 8064, Koror, Palau; DOB 22 Jan 1977; nationality China; Gender Female; Passport E85782076 (China) (individual) [TCO] (Linked To: GRAND LEGEND INTERNATIONAL ASSET MANAGEMENT GROUP CO. LTD.).

Designated pursuant to section 1(a)(ii)(B) of E.O. 13581, as amended, for having materially assisted, sponsored, or provided financial, material, or technological support for, or goods or services to or in support of indirectly, GRAND LEGEND INTERNATIONAL ASSET MANAGEMENT GROUP CO. LTD., a person whose property and interests in property are blocked pursuant to E.O. 13581, as amended.

7. YANG, Jian, Room No. 1115, No. 66 Jinkaidadao, Yubei District, Chongqing, China; DOB 25 Aug 1983; nationality Cyprus; Gender Male; Passport K00441025 (Cyprus) (individual) [TCO] (Linked To: GRAND LEGEND INTERNATIONAL ASSET MANAGEMENT GROUP CO. LTD.).

Designated pursuant to section 1(a)(ii)(C) of E.O. 13581, as amended, for being owned or controlled by, or having acted or purported to act for or on behalf of, directly or indirectly, GRAND LEGEND INTERNATIONAL ASSET MANAGEMENT GROUP CO. LTD., a person whose property and interests in property are blocked pursuant to E.O. 13581, as amended.

8. YANG, Yanming (a.k.a. “YANG, Kimi”), Room No. B314 Siamese Gioia Condo Sukhumvit 31, Sukhumvit Rd, North Klongton, Wattana, Bangkok, Thailand; 287-91 Moo 1 Sukhumvit 72 Alley Samrong Nuea, Mueang Samut Prakan, Thailand; Koror, Palau; DOB 24 Mar 1991; nationality Cambodia; alt. nationality Vanuatu; Gender Male; Passport N02404035 (Cambodia); alt. Passport RV0107373 (Vanuatu); Tax ID No. 100060 (Palau) (individual) [TCO] (Linked To: GRAND LEGEND INTERNATIONAL ASSET MANAGEMENT GROUP CO. LTD.).

Designated pursuant to section 1(a)(ii)(C) of E.O. 13581, as amended, for being owned or controlled by, or having acted or purported to act for or on behalf of, directly or indirectly, GRAND LEGEND INTERNATIONAL ASSET MANAGEMENT GROUP CO. LTD., a person whose property and interests in property are blocked pursuant to E.O. 13581, as amended.

9. TANG, Nigel Wan Bao Nabil, Singapore; DOB 02 Sep 1993; POB Singapore; nationality Singapore; Gender Male; Passport E6790628B (Singapore) (individual) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

10. CHEN, Xiuling (a.k.a. “CHEN, Karen”), Singapore; DOB 14 Jun 1982; POB Singapore; nationality Singapore; Gender Female; Passport K2325996K (Singapore); National ID No. S8217005G (Singapore) (individual) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

11. CHHAY, Guy, Phnom Penh, Cambodia; DOB 09 Jul 1987; POB Phnom Penh, Cambodia; nationality Cambodia; citizen Cambodia; Gender Male; Passport N0718897 (Cambodia); National ID No. 01052634401 (Cambodia) (individual) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

12. DARA, Ing, Phnom Penh, Cambodia; DOB 04 Sep 1981; POB Phnom Penh, Cambodia; nationality Cambodia; citizen Cambodia; Gender Male; Passport N00453333 (Cambodia); National ID No. 010929329 (Cambodia) (individual) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

BILLING CODE 4810-AL-P

BILLING CODE 4810-AL-C

Entities

1. PRINCE GROUP TRANSNATIONAL CRIMINAL ORGANIZATION, Cambodia; Target Type Criminal Organization [TCO].

Designated pursuant to section 1(a)(ii)(A) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended), for being a foreign person that constitutes a significant transnational criminal organization.

2. AQUA PURE WATER INC. (a.k.a. “FRIENDLIN”), P.O. Box 8064, Ngetkib, Airai, Palau; website https://aquapurewater2234.wixsite.com/aquapurewater; Tax ID No. 014903 (Palau) [TCO] (Linked To: WANG, Guodan).

Designated pursuant to section 1(a)(ii)(C) of E.O. 13581, as amended, for being owned or controlled by, or having acted or purported to act for or on behalf of, directly or indirectly, GUODAN WANG, a person whose property and interests in property are blocked pursuant to E.O. 13581, as amended.

3. GRAND LEGEND INTERNATIONAL ASSET MANAGEMENT GROUP CO. LTD., Ngerbelas Island, Kayangel, Palau; Tax ID No. 016290 (Palau) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

4. JING PIN INC. (a.k.a. “JING PIN CENTURY HOTEL”; a.k.a. “JING PIN INC. CHINA KITCHEN”; a.k.a. “JING PIN OCEAN STAR HOTEL”; a.k.a. “OCEAN STAR GIFT SHOP”; a.k.a. “OCEAN STAR RESTAURANT”), P.O. Box 8064 Ngerbeched, Koror, Palau; Tax ID No. 015177 (Palau) [TCO] (Linked To: WANG, Guodan).

Designated pursuant to section 1(a)(ii)(C) of E.O. 13581, as amended, for being owned or controlled by, or having acted or purported to act for or on behalf of, directly or indirectly, GUODAN WANG, a person whose property and interests in property are blocked pursuant to E.O. 13581, as amended.

5. PRINCE BANK PLC. (a.k.a. PRINCE FINANCE PLC), 175cd Mao Tse Toung Blvd., Phum 5, S.tuol Svay Prey 1, K.chamkar Mon, Phnom Penh 12308, Cambodia; SWIFT/BIC PINCKHPPXXX; website https://princebank.com.kh; Organization Established Date 28 Apr 2015; Target Type Financial Institution; Registration Number 00014627 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

6. BRIGHT TEAM GLOBAL LIMITED, Hong Kong, China; Virgin Islands, British; Company Number 1984336 (Virgin Islands, British) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

7. MIGHTY DIVINE FINE ART FUND, Cayman Islands; Organization Type: Trusts, funds and similar financial entities; Company Number 356843 (Cayman Islands); Global Intermediary Identification Number XCRTNS.99999.SL.136 [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

8. MIGHTY DIVINE FUND SPC, Cayman Islands; Organization Type: Trusts, funds and similar financial entities; Company Number 339930 (Cayman Islands); Global Intermediary Identification Number KT1M7G.99999.SL.136 [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

9. MIGHTY DIVINE GLOBAL FUND SPC, Cayman Islands; Company Number 341500 (Cayman Islands); Legal Entity Number 25490097TSPULKFOF602 [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

10. MIGHTY DIVINE HK LIMITED, Hong Kong, China; Company Number 2623747 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

11. MIGHTY DIVINE INSURANCE BROKERS LIMITED, Hong Kong, China; Company Number 2806520 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

12. MIGHTY DIVINE INVESTMENT MANAGEMENT LIMITED, Hong Kong, China; Business Registration Number 62230883 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

13. MIGHTY DIVINE LIMITED, Hong Kong, China; Virgin Islands, British; Company Number 1961510 (Virgin Islands, British) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

14. MIGHTY DIVINE MANAGEMENT LIMITED, Cayman Islands; Organization Type: Financial and Insurance Activities; Company Number 341114 (Cayman Islands); Global Intermediary Identification Number JRDHUP.99999.SL.136 [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

15. MIGHTY DIVINE PERSONNEL CONSULTANTS LIMITED, Hong Kong, China; Company Number 2994832 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

16. MIGHTY DIVINE SECURITIES LIMITED, Hong Kong, China; Company Number 2838290 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

17. MIGHTY DIVINE TRUST HONG KONG LIMITED, Hong Kong, China; Company Number 3095311 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

18. SUN AND SUN LIMITED (a.k.a. SUN & SUN LIMITED), Hong Kong, China; Company Number 2706961 (Hong Kong) [TCO] (Linked To: ZHOU, Yun).

Designated pursuant to section 1(a)(ii)(C) of E.O. 13581, as amended, for being owned or controlled by, or having acted or purported to act for or on behalf of, directly or indirectly, ZHOU YUN, a person whose property and interests in property are blocked pursuant to E.O. 13581, as amended.

19. CHEER CAPITAL LIMITED, Hong Kong, China; Business Registration Number 51220263 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

20. GEORESOURCES LIMITED, Hong Kong, China; Company Number 1003297 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

21. GEOTECH ENGINEERING LIMITED, Hong Kong, China; Company Number 0485362 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

22. GEOTECH HOLDINGS LIMITED, Hong Kong, China; Business Registration Number 66512554 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

23. KHOON GROUP LIMITED, Hong Kong, China; Business Registration Number 69884417 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

24. NOVA LUXE GLOBAL LIMITED, Hong Kong, China; Business Registration Number 72690162 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

25. NOVA MANAGEMENT SERVICES LIMITED, Hong Kong, China; Business Registration Number 70367989 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

26. PRAISE MARBLE LIMITED, Cayman Islands; Virgin Islands, British; Company Number 1903478 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

27. RICHWAY CONSTRUCTION ENGINEERING LIMITED, Hong Kong, China; Business Registration Number 52401658 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

28. STAR MERIT GLOBAL LIMITED, Phnom Penh, Cambodia; Virgin Islands, British; Company Number 1984550 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

29. YAU WING CONSTRUCTION AND ENGINEERING LIMITED, Hong Kong, China; Business Registration Number 53681314 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

30. PACIFIC CHARM HOLDINGS INVESTMENT LIMITED, Phnom Penh, Cambodia; Company Number 1977603 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

31. PRINCE GLOBAL GROUP LIMITED, Phnom Penh, Cambodia; Company Number 1988522 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

32. PRINCE GLOBAL HOLDINGS LIMITED, Phnom Penh, Cambodia; Company Number 1988528 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

33. PRINCE GROUP HOLDINGS LIMITED, Hong Kong, China; Company Number 2673683 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

34. RESPECTFUL STEED LIMITED, Phnom Penh, Cambodia; Company Number 1971898 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

35. RETAIN PROSPER LIMITED, Phnom Penh, Cambodia; Company Number 2022874 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

36. ROBUST HARMONY LIMITED, Phnom Penh, Cambodia; Company Number 1971181 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

37. SIMPLY ADVANCED LIMITED, Phnom Penh, Cambodia; Company Number 2035067 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

38. STARRY BLOOM LIMITED, Phnom Penh, Cambodia; Company Number 2035066 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

39. ATLASWISE CONSULTANTS PTE. LTD., Singapore; Identification Number 201713998H (Singapore) [TCO] (Linked To: CHEN, Xiuling).

Designated pursuant to section 1(a)(ii)(C) of E.O. 13581, as amended, for being owned or controlled by, or having acted or purported to act for or on behalf of, directly or indirectly, CHEN XIULING, a person whose property and interests in property are blocked pursuant to E.O. 13581, as amended.

40. AWESOME GLOBAL INVESTMENT GROUP CO. LTD., Phnom Penh, Cambodia; Tax ID No. K002-901705474 (Cambodia) [TCO] (Linked To: PRINCE HOLDING GROUP).

Designated pursuant to section 1(a)(ii)(C) of E.O. 13581, as amended, for being owned or controlled by, or having acted or purported to act for or on behalf of, directly or indirectly, PRINCE HOLDING GROUP, a person whose property and interests in property are blocked pursuant to E.O. 13581, as amended.

41. BELT ROAD CAPITAL MANAGEMENT CAMBODIA CO. LTD., Phnom Penh, Cambodia; Tax ID No. K002-901704485 (Cambodia) [TCO] (Linked To: PRINCE HOLDING GROUP).

Designated pursuant to section 1(a)(ii)(C) of E.O. 13581, as amended, for being owned or controlled by, or having acted or purported to act for or on behalf of, directly or indirectly, PRINCE HOLDING GROUP, a person whose property and interests in property are blocked pursuant to E.O. 13581, as amended.

42. CAPITAL ZONE WAREHOUSING PTE. LTD., Singapore; Identification Number 202122650M (Singapore) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

43. CLOUD XERO MANAGEMENT PTE. LTD., Singapore; Identification Number 202129704C (Singapore) [TCO] (Linked To: CHEN, Xiuling).

Designated pursuant to section 1(a)(ii)(C) of E.O. 13581, as amended, for being owned or controlled by, or having acted or purported to act for or on behalf of, directly or indirectly, CHEN XIULING, a person whose property and interests in property are blocked pursuant to E.O. 13581, as amended.

44. DW CAPITAL HOLDINGS PTE. LTD., Singapore; Identification Number 201833892H (Singapore) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

45. LUMINOUS GLOW LIMITED, Phnom Penh, Cambodia; Company Number 1992019 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

46. PRINCE HOROLOGY VOCATIONAL TRAINING CENTER (a.k.a. PRINCE HOROLOGY), Phnom Penh, Cambodia; Organization Established Date 2020; Organization Type: Higher education [TCO] (Linked To: PRINCE HOLDING GROUP).

Designated pursuant to section 1(a)(ii)(C) of E.O. 13581, as amended, for being owned or controlled by, or having acted or purported to act for or on behalf of, directly or indirectly, PRINCE HOLDING GROUP, a person whose property and interests in property are blocked pursuant to E.O. 13581, as amended.

47. SKYLINE INVESTMENT MANAGEMENT PTE. LTD., Singapore; Identification Number 201622975H (Singapore) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

48. TAIWAN PRINCE REAL ESTATE INVESTMENT CO. LTD., Taipei, Taiwan; Company Number 42992024 (Taiwan) [TCO] (Linked To: CHEN, Xiuling).

Designated pursuant to section 1(a)(ii)(C) of E.O. 13581, as amended, for being owned or controlled by, or having acted or purported to act for or on behalf of, directly or indirectly, CHEN XIULING, a person whose property and interests in property are blocked pursuant to E.O. 13581, as amended.

49. WARPCAPITAL YACHT MANAGEMENT PTE. LTD., Singapore; Identification Number 201900147W (Singapore) [TCO] (Linked To: CHEN, Xiuling).

Designated pursuant to section 1(a)(ii)(C) of E.O. 13581, as amended, for being owned or controlled by, or having acted or purported to act for or on behalf of, directly or indirectly, CHEN XIULING, a person whose property and interests in property are blocked pursuant to E.O. 13581, as amended.

50. GOOD EQUITY TEAM PTE. LTD., Singapore; Organization Type: Management consultancy activities; Identification Number 202446827M (Singapore) [TCO] (Linked To: CHEN, Xiuling).

Designated pursuant to section 1(a)(ii)(C) of E.O. 13581, as amended, for being owned or controlled by, or having acted or purported to act for or on behalf of, directly or indirectly, CHEN XIULING, a person whose property and interests in property are blocked pursuant to E.O. 13581, as amended.

51. PRINCE CULTURE AND MEDIA CO. LTD., Phnom Penh, Cambodia; Tax ID No. K008-901636016 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

52. PRINCE GROUP PLC., Phnom Penh, Cambodia; Tax ID No. K002-901907416 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

53. PRINCE HOLDING PLC., Phnom Penh, Cambodia; Tax ID No. K002-901907141 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

54. PRINCE HUAN YU ARCHITECTURAL DECORATION ENGINEERING CAMBODIA CO. LTD., Phnom Penh, Cambodia; Tax ID No. K004-901900288 (Cambodia) [TCO] (Linked To: LEI, Bo).

Designated pursuant to section 1(a)(ii)(C) of E.O. 13581, as amended, for being owned or controlled by, or having acted or purported to act for or on behalf of, directly or indirectly, LEI BO, a person whose property and interests in property are blocked pursuant to E.O. 13581, as amended.

55. PRINCE HUAN YU CAMBODIA GEOLOGICAL SURVEY DESIGN CO. LTD., Phnom Penh, Cambodia; Tax ID No. K004-901903021 (Cambodia) [TCO] (Linked To: LEI, Bo).

Designated pursuant to section 1(a)(ii)(C) of E.O. 13581, as amended, for being owned or controlled by, or having acted or purported to act for or on behalf of, directly or indirectly, LEI BO, a person whose property and interests in property are blocked pursuant to E.O. 13581, as amended.

56. PRINCE SEASHORE NO. 1 CO. LTD., Phnom Penh, Cambodia; Tax ID No. L001-901903144 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

57. STERLING CAPITAL MANAGEMENT PTE. LTD., Singapore; Identification Number 202130572K (Singapore) [TCO] (Linked To: CHEN, Xiuling).

Designated pursuant to section 1(a)(ii)(C) of E.O. 13581, as amended, for being owned or controlled by, or having acted or purported to act for or on behalf of, directly or indirectly, CHEN XIULING, a person whose property and interests in property are blocked pursuant to E.O. 13581, as amended.

58. AWESOME CONSTRUCTION DESIGN ENGINEERING CO. LTD., Phnom Penh, Cambodia; Tax ID No. L001-901704051 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

59. AWESOME SOFTWARE TECHNOLOGIES CO. LTD., Phnom Penh, Cambodia; Tax ID No. K002-901704018 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

60. BELT ROAD CAPITAL INVESTMENT GROUP CO. LTD., Phnom Penh, Cambodia; Tax ID No. K002-901805561 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

61. CANOPY SANDS DEVELOPMENT CO. LTD., Phnom Penh, Cambodia; Tax ID No. K002-901906001 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

62. CITYLINK CO. LTD., Phnom Penh, Cambodia; Tax ID No. L001-100077668 (Cambodia) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

63. CK ID CO. LTD, Phnom Penh, Cambodia; Tax ID No. L001-100135641 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

64. HIGH VIEW SKYLINE INVESTMENT CO. LTD., Phnom Penh, Cambodia; Tax ID No. K003-901639643 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

65. PRINCE BUSINESS OPERATING MANAGEMENT CAMBODIA CO. LTD., Phnom Penh, Cambodia; Tax ID No. K008-901639891 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

66. PRINCE CLUB MANAGEMENT CAMBODIA CO. LTD., Phnom Penh, Colombia; Tax ID No. K008-901701158 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

67. PRINCE CULTURE AND TOURISM DEVELOPMENT CO. LTD., Kandal, Cambodia; Tax ID No. B108-901806256 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

68. PRINCE HAPPINESS PLAZA CO. LTD., Phnom Penh, Cambodia; Tax ID No. L001-901903143 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

69. PRINCE HORTICULTURE DEVELOPMENT CO. LTD., Kandal, Cambodia; Tax ID No. B108-901702269 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

70. PRINCE HOSPITALITY MANAGEMENT CO. LTD., Phnom Penh, Cambodia; Tax ID No. K002-901903966 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

71. PRINCE KOH TA KIEV CO. LTD., Phnom Penh, Cambodia; Tax ID No. L001-901903212 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

72. PRINCE MARKETING PLANNING AGENCY CAMBODIA CO. LTD., Phnom Penh, Cambodia; Tax ID No. K008-901639799 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

73. PRINCE MEDIA GALLERY CO. LTD., Phnom Penh, Cambodia; Tax ID No. K003-901504226 (Cambodia) [TCO] (Linked To: CHHAY, Guy).

Designated pursuant to section 1(a)(ii)(C) of E.O. 13581, as amended, for being owned or controlled by, or having acted or purported to act for or on behalf of, directly or indirectly, CHHAY GUY, a person whose property and interests in property are blocked pursuant to E.O. 13581, as amended.

74. PRINCE PLAZA INVESTMENT CO. LTD., Phnom Penh, Cambodia; Tax ID No. L001-901804915 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

75. PRINCE PROPERTY CAMBODIA MANAGEMENT CO. LTD., Phnom Penh, Cambodia; Tax ID No. K003-901503542 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

76. PRINCE REAL ESTATE CAMBODIA GROUP CO. LTD., Phnom Penh, Cambodia; Tax ID No. L001-901501075 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

77. PRINCE REAL ESTATE DECORATION ENGINEERING CO. LTD., Phnom Penh, Cambodia; Tax ID No. K008-901503558 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

78. PRINCE SMART GARDEN CO. LTD., Preah Sihanouk, Cambodia; Tax ID No. L001-901900678 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

79. PRINCE SUPER MARKET CAMBODIA CO. LTD., Phnom Penh, Cambodia; Tax ID No. K008-901700042 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

80. PRINCE TIAN XI WAN CO. LTD., Preah Sihanouk, Cambodia; Tax ID No. L001-901907509 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

81. PRINCE TIMES HOTEL MANAGEMENT CO. LTD., Preah Sihanouk, Cambodia; Tax ID No. B117-901701939 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

82. PRINCE TIMES PLAZA CO. LTD., Phnom Penh, Cambodia; Tax ID No. L001-902100458 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

83. PRINCE VANGUARD DEVELOPMENT CO. LTD., Phnom Penh, Cambodia; Tax ID No. L001-902201692 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

84. PRINCE YACHT CLUB CAMBODIA CO. LTD., Preah Sihanouk, Cambodia; Tax ID No. B117-901701217 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

85. TGC CAMBODIA CO. LTD., Phnom Penh, Cambodia; Tax ID No. K003-901903576 (Cambodia) [TCO] (Linked To: CHHAY, Guy).

Designated pursuant to section 1(a)(ii)(C) of E.O. 13581, as amended, for being owned or controlled by, or having acted or purported to act for or on behalf of, directly or indirectly, CHHAY GUY, a person whose property and interests in property are blocked pursuant to E.O. 13581, as amended.

86. XIN TIAN JIAN CAMBODIA REAL ESTATE DEVELOPMENT CO. LTD, Phnom Penh, Cambodia; Tax ID No. L001-107034018 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

87. ZHI XIN INVESTMENT CO. LTD., Phnom Penh, Cambodia; Tax ID No. B117-901701963 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

88. ZHI XU INVESTMENT CO. LTD., Phnom Penh, Cambodia; Tax ID No. B117-901701964 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

89. ZHI XU KOH RATANAK HOTEL CO. LTD., Preah Sihanouk, Cambodia; Tax ID No. B117-901908506 (Cambodia) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

90. AUSPICIOUS TYCOON LIMITED, Phnom Penh, Cambodia; Company Number 1984330 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

91. DELIGHTFUL THRIVE LIMITED, Phnom Penh, Cambodia; Company Number 1992053 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

92. EVEN SINCERITY LIMITED, Phnom Penh, Cambodia; Company Number 1970592 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

93. FULAM INVESTMENT LIMITED, Phnom Penh, Cambodia; Company Number 1542112 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

94. GIANT VICTORY HOLDINGS LIMITED, Phnom Penh, Cambodia; Company Number 1930566 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

95. GOLDEN ASCEND HK LIMITED, Hong Kong, China; Company Number 2713133 (Hong Kong) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

96. GOLDEN ASCEND INTERNATIONAL LIMITED, Phnom Penh, Cambodia; Company Number 1976645 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

97. HARMONIC STATE LIMITED, Phnom Penh, Cambodia; Company Number 2030628 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

98. JUMBO HIGH LIMITED, Phnom Penh, Cambodia; Company Number 1984889 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

99. NOBLE TITLE LIMITED, Phnom Penh, Cambodia; Company Number 1925678 (Virgin Islands, British) [TCO] (Linked To: CHEN, Zhi).

BILLING CODE 4810-AL-P

BILLING CODE 4810-AL-C

Designated pursuant to section 1(a)(ii)(C) of E.O. 13581, as amended, for being owned or controlled by, or having acted or purported to act for or on behalf of, directly or indirectly, CHEN ZHI, a person whose property and interests in property are blocked pursuant to E.O. 13581, as amended.

118. MAJESTY PROPERTIES PTE. LTD., Singapore; Identification Number 201900446K (Singapore) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

119. CAMBODIAN HENG XIN REAL ESTATE INVESTMENT CO. LTD., Phnom Penh, Cambodia; Tax ID No. K002-107015455 (Cambodia) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

120. GOLDEN FORTUNE RESORTS WORLD CO. LTD., Cambodia; Tax ID No. K002-901803517 (Cambodia) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

121. JIN BEI GROUP CO. LTD. (a.k.a. JINBEI CASINO), Cambodia; Tax ID No. K003-901704045 (Cambodia) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

122. PRINCE HOLDING GROUP, Prince Holding Group Building, Plov Koh Pich, Phum 14, Tonle Basak Sangkat, Chamkar Mon Khan, Phnom Penh, Cambodia; website https://www.princeholdinggroup.com/; Organization Established Date Mar 2015 [TCO] (Linked To: CHEN, Zhi; Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended

123. PRINCE HUAN YU REAL ESTATE CAMBODIA GROUP CO. LTD. (a.k.a. PRINCE HUAN YU CAMBODIA INVESTMENT CO. LTD.; a.k.a. PRINCE HUAN YU REAL ESTATE GROUP; a.k.a. “UNI MORE GROUP CO. LTD.”), Phnom Penh, Cambodia; Tax ID No. L001-901801128 (Cambodia) [TCO] (Linked To: PRINCE HOLDING GROUP).

Designated pursuant to section 1(a)(ii)(C) of E.O. 13581, as amended, for being owned or controlled by, or having acted or purported to act for or on behalf of, directly or indirectly, PRINCE HOLDING GROUP, a person whose property and interests in property are blocked pursuant to E.O. 13581, as amended.

124. WARP DATA TECHNOLOGY LAO SOLE CO. LTD., Laos; Tax ID No. 164420736-900 (Laos) [TCO] (Linked To: PRINCE GROUP TRANSNATIONAL CRIMINAL ORGANIZATION).

Designated pursuant to section 1(a)(ii)(C) of E.O. 13581, as amended, for being owned or controlled by, or having acted or purported to act for or on behalf of, directly or indirectly, PRINCE GROUP TRANSNATIONAL CRIMINAL ORGANIZATION, a person whose property and interests in property are blocked pursuant to E.O. 13581, as amended.

125. SURE TYCOON LIMITED, Phnom Penh, Cambodia; Virgin Islands, British; Company Number 2030676 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

126. SWORD RIVER LIMITED, Phnom Penh, Cambodia; Virgin Islands, British; Company Number 1971899 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

127. TOWARDS SUNSHINE LIMITED, Phnom Penh, Cambodia; Virgin Islands, British; Company Number 1970125 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

128. UNITED RICHES GLOBAL LIMITED, Phnom Penh, Cambodia; Virgin Islands, British; Company Number 1984537 (Virgin Islands, British) [TCO] (Linked To: CHEN, Zhi).

Designated pursuant to section 1(a)(ii)(C) of E.O. 13581, as amended, for being owned or controlled by, or having acted or purported to act for or on behalf of, directly or indirectly, CHEN ZHI, a person whose property and interests in property are blocked pursuant to E.O. 13581, as amended.

Bradley T. Smith
Director, Office of Foreign Assets Control.

[FR Doc. 2025-20236 Filed 11-18-25; 8:45 am]

BILLING CODE 4810-AL-P